DEPARTMENT OF HEALTH AND HUMAN SERVICES

Centers for Disease Control and Prevention

Agency for Toxic Substances and Disease Registry

[Program Announcement 03012]

Public Health Conference Support Cooperative Agreement Program; Notice of Availability of Funds Amendment

A notice announcing the availability of Fiscal Year 2003 funds for a cooperative agreement program to support public health conferences was published in the Federal Register dated January 10, 2003, Volume 68, Number 7, pages 1463-1467. The notice is amended as follows:

Page 1466, first column, section “G. Submission and Deadline,” remove the sentence, “Expected Award date: July 1, 2003.”

Page 1466, first column, subsection “Deadline,” remove the sentence, “There will be one conference support review this year and awards will be made in the month of July, 2003.”

Dated: March 28, 2003.
Sandra R. Manning,
Director, Procurement and Grants Office, Centers for Disease Control and Prevention.

[FR Doc. 03-8063 Filed 4-2-03; 8:45 am]

BILLING CODE 4163-18-P